DEPARTMENT OF TRANSPORTATION

National Highway Traffic Safety Administration

[Docket No. NHTSA-2017-0013; Notice 1]

Hyundai Motor America, Receipt of Petition for Decision of Inconsequential Noncompliance

AGENCY: National Highway Traffic Safety Administration (NHTSA), Department of Transportation (DOT).

ACTION: Receipt of petition.

SUMMARY: Hyundai Motor America (Hyundai), on behalf of Hyundai Motor Company, has determined that certain model year (MY) 2015 Hyundai Sonata motor vehicles do not fully comply with Federal Motor Vehicle Safety Standard (FMVSS) No. 108, Lamps, Reflective Devices, and Associated Equipment. Hyundai filed a noncompliance information report dated February 5, 2017. Hyundai also petitioned NHTSA on February 3, 2017, for a decision that the subject noncompliance is inconsequential as it relates to motor vehicle safety.

DATES: The closing date for comments on the petition is May 17, 2017.

ADDRESSES: Interested persons are invited to submit written data, views, and arguments on this petition. Comments must refer to the docket and notice number cited in the title of this notice and submitted by any of the following methods:

• Mail: Send comments by mail addressed to U.S. Department of Transportation, Docket Operations, M-30, West Building Ground Floor, Room W12-140, 1200 New Jersey Avenue SE., Washington, DC 20590.

• Hand Delivery: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the Internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: Hyundai Motor America (Hyundai), has determined that certain model year (MY) 2015 Hyundai Sonata motor vehicles do not fully comply with paragraph S6.5.3.4.1 of Federal Motor Vehicle Safety Standard (FMVSS) No. 108, Lamps, Reflective Devices, and Associated Equipment. Hyundai filed a noncompliance information report dated February 5, 2017, Defect and Noncompliance Responsibility and Reports. Hyundai also petitioned NHTSA on February 3, 2017, pursuant to 49 U.S.C. 30118(d) and 30120(h) and 49 CFR part 556, for an exemption from the notification and remedy requirements of 49 U.S.C. Chapter 301 on the basis that this noncompliance is inconsequential as it relates to motor vehicle safety.

This notice of receipt of Hyundai's petition is published under 49 U.S.C. 30118 and 30120 and does not represent any agency decision or other exercise of judgment concerning the merits of the petition.

II. Vehicles Involved: Approximately 3,054 MY 2015 Hyundai Sonata motor vehicles, manufactured between April 25, 2014, and May 16, 2014, are potentially involved.

III. Noncompliance: Hyundai explains that the noncompliance is that the lens on the replaceable headlamp assembly in the subject vehicles is missing the HB bulb designation, as required by paragraph S6.5.3.4.1 of FMVSS No. 108.

IV. Rule Text: Paragraph S6.5.3.4.1 of FMVSS No. 108 states in pertinent part:

S6.5.3.4 Replacable bulb headlamp markings.

S6.5.3.4.1 The lens of each replaceable bulb headlamp must bear permanent marking in front of each replacable light source with which it is equipped that states either: The HB Type, if the light source conforms to S11 of this standard for filament light sources, or the bulb marking/designation provided in compliance with Section VIII of appendix A of 49 CFR part 564 (if the light source conforms to S11 of this standard for discharge light sources) . . .

V. Summary of Hyundai's Petition: Hyundai described the subject noncompliance and stated its belief that the noncompliance is inconsequential as it relates to motor vehicle safety.

In support of its petition, Hyundai submitted the following reasoning:

(a) The noncompliance has no impact on headlamp performance: The mismarked headlamps are the correct headlamps for the affected vehicles and conform to all applicable FMVSS photometric and other requirements. In a recent decision involving similar facts, NHTSA granted an inconsequentiality petition involving a noncompliant bulb marking because the use of the mismarked bulb would “not create a noncompliance with any of the headlamp performance requirements of FMVSS No. 108 or otherwise present an increased risk to motor vehicle safety.” Osram Sylvania Products, Inc., grant of petition for decision of Inconsequential Noncompliance, 78 FR 22943, 22944 (Dep't of Trans. Apr. 17, 2013)

(b) The lens is marked with an industry standard bulb type: The headlamp lenses in question are clearly marked “9005” (the ANSI designation), which are well-known alternative designations for the HB3 bulb. This designation is recognized throughout the automotive industry, and is used by lighting manufacturers interchangeably with a lamp's HB type.

(c) The risk of consumer confusion is remote: A consumer can use the 9005 ANSI alternative to properly identify and purchase the correct replacement headlamp bulb for the affected vehicles. Hyundai searched a number of national automotive parts stores (Autozone, O'Reilly, Advanced Auto Parts, and Pep Boys), and found that all HB3 replacement bulbs in these stores were marked with the 9005 ANSI designation. In fact, the packaging on the replacement bulbs was more commonly marked with the ANSI designation than the HB type.

(d) NHTSA precedent supports granting this petition: NHTSA has previously ruled that the noncompliance at issue here (lamps marked with the ANSI designation rather than the HB type) is inconsequential to motor vehicle safety. On January 18, 2017, the Agency granted GM's petition for inconsequential noncompliance regarding their high-beam headlamp lenses on model year 2012-2015 Chevrolet Sonic passenger cars that were not marked with “HB3” (the HB bulb type), as required by paragraph S6.5.3.4.1 of FMVSS No. 108. NHTSA granted the petition stating:

We agree with GM that the ANSI `9005' designation is a well-known alternative designation for the HB3 light source and that the replacement light source packaging is commonly marked with both the HB type and ANSI designation. As such, we believe that consumers can properly identify and purchase the correct replacement upper beam light source for the affected vehicles.

See General Motors, LLC, Grant of petition for Decision of Inconsequential Noncompliance, (NHTSA-2015-0035).

Hyundai concluded by expressing the belief that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Hyundai no longer controlled at the time it determined that the noncompliance existed. However, any decision on this petition does not relieve vehicle distributors and dealers of the prohibitions on the sale, offer for sale, or introduction or delivery for introduction into interstate commerce of the noncompliant vehicles under their control after Hyundai notified them that the subject noncompliance existed.

Authority: 49 U.S.C. 30118, 30120: delegations of authority at 49 CFR 1.95 and 501.8.

Jeffrey M. Giuseppe,
Director, Office of Vehicle Safety Compliance.

[FR Doc. 2017-07614 Filed 4-14-17; 8:45 am]

BILLING CODE 4910-59-P